DEPARTMENT OF THE INTERIOR

Indian Arts and Crafts Board

25 CFR Part 309

RIN 1076-AE16

Protection of Products of Indian Art and Craftsmanship; Correction

AGENCY: Indian Arts and Crafts Board (IACB), Department of the Interior.

ACTION: Correction to final regulations.

SUMMARY: This document contains a correction to the final regulations for the Indian Arts and Crafts Enforcement Act of 2000 (25 CFR part 309), which were published Thursday, June 12, 2003, (68 FR 35164). The rule clarifies the regulatory definition of “Indian product,” as defined under the Indian Arts and Crafts Act of 1990.

EFFECTIVE DATES: June 13, 2003.

FOR FURTHER INFORMATION CONTACT: Meridith Z. Stanton, Director, (202) 208-3773 (not a toll free call).

SUPPLEMENTARY INFORMATION:

Background

The final regulations that are the subject of this correction clarify the regulatory definition of “Indian product,” as defined under the Indian Arts and Crafts Act of 1990 (Pub. L. 101-644, 104 Stat. 4662).

Need for Correction

As published, the final regulations contain an error which may prove to be misleading and is in need of clarification.

Correction of Publication

Accordingly, the publication on June 12, 2003 of the final regulations (25 CFR part 309), which were the subject of FR Doc. 03-14827, is corrected as follows:

Effective Date—[Corrected]

On page 35164, in the second column, the effective date of September 10, 2003 is to read July 14, 2003.

Meridith Z. Stanton,
Director, Indian Arts and Crafts Board.

[FR Doc. 03-15417 Filed 6-18-03; 8:45 am]

BILLING CODE 4310-02-P